DEPARTMENT OF TRANSPORTATION

Surface Transportation Board

[STB Finance Docket No. 35059]

The Indiana Rail Road Company—Trackage Rights Exemption—CSX Transportation, Inc.

Pursuant to a written draft trackage rights agreement, CSX Transportation, Inc. (CSXT) has agreed to grant limited overhead trackage rights to The Indiana Rail Road Company (INRD) over CSXT's line of railroad known as the CE&D Subdivision, between CSXT's connection with INRD's trackage at approximately CSXT milepost OZA 181.70 at Belt Junction, Terre Haute, IN, and at approximately CSXT milepost 204.20 at Sullivan, IN, a distance of approximately 22.5 miles.¹

¹ Pursuant to 49 CFR 1180.6(a)(7)(ii), INRD states that it will file the executed trackage rights agreement with the Board within 10 days of the date of its execution.

The transaction is scheduled to be consummated on July 29, 2007. The trackage rights are necessary, for economy and efficiency of operation, to permit CSXT and INRD to interchange at Terre Haute unit coal trains and empty hopper trains moving to and from Ameren Energy Generating Company at Lis, IL, on INRD's line of railroad west of Sullivan, using its own trains (locomotives or cars) with its own crews.²

² INRD states that it is contemplating rehabilitating its own line or railroad between Terre Haute and Sullivan within the next 5 years so that it can operate the Ameren trains entirely via lines of INRD between Terre Haute and Lis.

As a condition to this exemption, any employees affected by the acquisition of the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the effectiveness of the exemption. Stay petitions must be filed by July 20, 2007 (at least 7 days before the exemption becomes effective).

An original and 10 copies of all pleadings, referring to STB Finance Docket No. 35059, must be filed with the Surface Transportation Board, 395 E Street, SW., Washington, DC 20423-0001. In addition, one copy of each pleading must be served on John Broadley, 1054 31st Street, NW., Suite 200, Washington, DC 20007.

Board decisions and notices are available on our Web site at: http://www.stb.dot.gov.

Dated: July 6, 2007.
By the Board, Joseph H. Dettmar, Acting Director, Office of Proceedings.
Vernon A. Williams,
Secretary.

[FR Doc. E7-13524 Filed 7-12-07; 8:45 am]

BILLING CODE 4915-01-P